DEPARTMENT OF HEALTH AND HUMAN SERVICES

Announcement of Anticipated Availability of Funds for Family Planning Services Grants

AGENCY: Department of Health and Human Services, Office of the Secretary, Office of Public Health and Science, Office of Population Affairs.

ACTION: Notice; correction.

SUMMARY: The Office of Population Affairs, OPHS, HHS published a notice in the Federal Register of Monday, July 3, 2006 announcing the anticipated availability of funds for family planning services grants. This notice contained an error. The application due date for an eligible State/Population/Area was listed incorrectly. This Notice corrects the application due date for the State of Wisconsin.

FOR FURTHER INFORMATION CONTACT: Susan B. Moskosky, 240-453-2888.

Correction

In the Federal Register of July 3, 2006, FR Doc. 06-5956, on page 37985, correct Table I to read:

Table I
States/populations/areas to be served | Approximate funding available | Application due date | Approx. grant funding date
Region I:
New Hampshire | $1,265,000 | 09/01/06 | 01/01/07
Vermont | 752,000 | 09/01/06 | 01/01/07
Maine | 1,765,000 | 09/01/06 | 01/01/07
Rhode Island | 817,000 | 09/01/06 | 01/01/07
Connecticut | 2,295,000 | 09/01/06 | 01/01/07
Massachusetts | 2,583,000 | 09/01/06 | 01/01/07
Region II:
No service areas competitive in FY 2007.
Region III:
Washington, DC | 1,073,000 | 09/01/06 | 01/01/07
Central Pennsylvania | 2,785,000 | 03/01/07 | 07/01/07
Virginia | 4,528,000 | 12/01/06 | 04/01/07
Region IV:
Georgia | 7,933,000 | 03/01/07 | 07/01/07
Florida, Greater Orlando area | 549,000 | 06/01/07 | 09/30/07
Region V:
Ohio, Greater Cleveland | 2,023,000 | 12/01/06 | 04/01/07
Illinois | 7,931,000 | 09/01/06 | 01/01/07
Illinois, Chicago area | 205,000 | 06/01/07 | 09/30/07
Michigan | 7,549,000 | 12/01/06 | 04/01/07
Wisconsin | 3,405,000 | 11/01/06 | 03/01/07
Minnesota, Ramsey County | 320,000 | 09/01/06 | 01/01/07
Region VI:
Texas | 11,824,000 | 12/01/06 | 04/01/07
Region VII:
No service areas competitive in FY 2007.
Region VIII:
South Dakota | 1,014,000 | 03/01/07 | 07/01/07
Wyoming | 821,000 | 09/01/06 | 01/01/07
Region IX:
Navajo Nation | 640,000 | 03/01/07 | 07/01/07
Commonwealth of the Northern Mariana Islands | 170,000 | 09/01/06 | 01/01/07
Federated States of Micronesia | 411,000 | 03/01/07 | 07/01/07
Nevada, Washoe County | 708,000 | 03/01/07 | 07/01/07
Region X:
Alaska | 420,000 | 03/01/07 | 07/01/07
Oregon | 2,452,000 | 03/01/07 | 07/01/07
Idaho | 1,568,000 | 03/01/07 | 07/01/07
Washington | 3,240,000 | 09/01/06 | 01/01/07
Washington, Seattle area | 159,000 | 03/01/07 | 07/01/07

Dated: July 19, 2006.
Evelyn M. Kappeler,
Acting Director, Office of Population Affairs.

[FR Doc. E6-11963 Filed 7-25-06; 8:45 am]

BILLING CODE 4150-34-P